DEPARTMENT OF JUSTICE

Office of Justice Programs

Agency Information Collection Activities: Proposed Collection; Comment Request on Revision of a Currently Approved Collection

ACTION: Notice of Information Collection; Revision of a Currently Approved Collection; Firearms Addendum to the Arrestee Drug Abuse Monitoring (ADAM) Program Instrument.

The Department of Justice, Office of Justice Programs, National Institute of Justice, has submitted the following information collection request for review and clearance in accordance with the Paperwork Reduction Act of 1995. This proposed information collection is published to obtain comments from the public and affected agencies. Comments are encouraged and will be accepted for “sixty days” until May 8, 2001.

If you have additional comments, suggestions, or need a copy of the proposed information collection instrument with instructions, or additional information, please contact Dr. Henry Brownstein, Director, Arrestee Drug Abuse Monitoring (ADAM) Program, at 202-305-8705 or write to him at the National Institute of Justice, 810 7th Street NW, Washington, DC 20531.

Written comments and suggestions from the public and affected agencies concerning the proposed collection of information should address one or more of the following four points:

(1) Evaluate whether the proposed collection of information is necessary for the proper performance of the functions of the agency, including whether the information will have any practical utility;

(2) Evaluate the accuracy of the agency's estimate of the burden of the proposed collection of information, including the validity of the methodology and assumptions used;

(3) Enhance the quality, utility, and clarity of the information to be collected; and

(4) Minimize the burden of collection of information on those who are to respond, including through the use of appropriate automated, electronic, mechanical, or other technological collection techniques or other forms of information technology, e.g., permitting electronic submission of responses.

Overview of This Information Collection

(1) Type of Information Collection: Revision of a currently approved collection.

(2) Title of the Form/Collection: Firearms Addendum to the Arrestee Drug Abuse Monitoring (ADAM) Program Instrument.

(3) Agency form number, if any, and the applicable component of the Department of Justice sponsoring the collection: The form number is AD-1. The sponsoring component of the Department of Justice is the Office of Research and Evaluation, National Institute of Justice.

(4) Affected public who will be asked or required to respond, as well as a brief abstract: Misdemeanor and felony arrestees in city and county jails. The ADAM program monitors the extent and types of drug use among arrestees. Currently the program operates in 38 counties. Data are collected in each county every three months from a new, county-based representative sample of arrestees. Participation is voluntary and confidential and data collected include a personal interview and urine specimen.

In the next 6 months, OJP proposes to introduce a supplemental instrument to the currently approved ADAM instrument (OMB No. 1121-0137). This supplemental instrument is termed the Firearms Addendum and is intended to collect information from ADAM, program arrestees about their participation in legal and illegal firearms markets. The respondents to the firearms questionnaire will be arrestees selected for the ADAM study, who are asked to participate in a supplemental interview immediately following the ADAM interview.

The firearms instrument initially will be implemented in 2 ADAM sites for testing, and subsequently finalized and made available to all ADAM sites for their use.

(5) An estimate of the total number of respondents and amount of time estimated for an average respondent to respond/reply: The total number of respondents is estimated to be a maximum of 70,000 (revised from current inventory of 100,000 respondents). Each response for the core instrument averages 30 minutes. The Firearms Addendum questionnaire will be administered to a maximum of 52,550 respondents at full implementation, taking 10 minutes a response.

(6) An estimate of the total public burden (in hours) associated with the collection: 43,750 hours (for core questionnaire and Firearms Addendum together).

If additional information is required, contact: Mrs. Brenda E. Dyer, Deputy Clearance Officer, United States Department of Justice, Information Management and Security Staff, Justice Management Division, Suite 1220, National Place, 1331 Pennsylvania Ave NW, Washington, DC 20530.

Dated: March 2, 2001.
Brenda E. Dyer,
Department Deputy Clearance Officer, United States Department of Justice.

[FR Doc. 01-5822 Filed 3-8-01; 8:45 am]

BILLING CODE 4410-18-M